DEPARTMENT OF ENERGY

Federal Energy Regulatory Commission

[Project No. 3253-015]

Mad River Power Associates; Notice Soliciting Scoping Comments

Take notice that the following hydroelectric application has been filed with the Commission and is available for public inspection.

a. Type of Application: Subsequent Minor License.

b. Project No.: 3253-015.

c. Date Filed: November 3, 2020.

d. Submitted By: Mad River Power Associates (MRPA).

e. Name of Project: Campton Hydroelectric Project (project).

f. Location: On the Mad River in Grafton County, New Hampshire. The project occupies approximately 0.05 acre of federal land administered by the U.S. Forest Service.

g. Filed Pursuant to: Federal Power Act, 16 U.S.C. 791(a)-825(r).

h. Applicant Contact: Mr. Ian Clark, Mad River Power Associates, 1 Pepsi Way, Suite 6n75, Katonah, NY 10536; Phone at (914) 297-7645, or email at info@dichotomycapital.com.

i. FERC Contact: Amanda Gill at (202) 502-6773; or email at amanda.gill@ferc.gov.

j. Deadline for filing scoping comments: June 17, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Campton Hydroelectric Project (P-3253-015).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Campton Project is located at the Forest Service's Campton Dam and Pond, and consists of: (1) A 22-foot-wide, 24-foot-high concrete intake structure located approximately 60 feet upstream of the Campton Dam on the east shoreline of Campton Pond, that includes a 25-foot-long,13-foot-high trashrack with 1.75-inch clear bar spacing; (2) a 600-foot-long, 78-inch-diameter underground steel penstock that trifurcates into three 48-inch-diameter sections measuring 20 feet, 30 feet, and 43 feet in length, respectively; (3) a 43-foot-long, 30-foot-wide powerhouse located on the east side of the Mad River that contains a 167-kW Francis turbine-generator unit; (4) two 236-kW submersible Flygt turbine-generator units located outside of the powerhouse; (5) an approximately 55-foot-long, 40-foot-wide tailrace; (6) a 200-foot-long transmission line and a 33.5-kilovolt transformer that connects the generators to the electric grid; (7) an Atlantic salmon smolt bypass facility consisting of an 85-foot-long, 20-inch diameter cast iron pipe that empties into an 3.5-foot-deep plunge pool approximately 15 feet downstream of the dam; and (8) appurtenant facilities. The project creates an approximately 600-foot-long bypassed reach of the Mad River.

MRPA currently has a Special Use Permit from the Forest Service for operation and maintenance of the Campton Project. MRPA voluntarily operates the project as a run-of-release facility. Each Flyght turbine unit has a minimum and maximum hydraulic capacity of 74 cubic feet per second (cfs) and 89 cfs, respectively, and the Francis turbine unit has a minimum and maximum hydraulic capacity of 23 cfs and 60 cfs, respectively. When generating electricity, water released from Campton Pond, is diverted through the intake structure and the penstock, to the turbines, where it is then discharged to the project tailrace and the Mad River.

The current license requires: (1) Inflow to be discharged over the spillway to the bypassed reach during periods of non-generation or when inflow is less than 25 cfs; (2) a minimum flow of 4.5 cfs through the smolt bypass facility during periods of generation or when inflow is greater than 25 cfs; and (3) operation of the smolt bypass facility from mid-April to mid-June. The average annual energy production of the project from 2007 through 2018 was 1,170 MWh.

MRPA proposes to: (1) Continue operating the project in a run-of-release mode; (2) replace one of the 236-kW Flygt turbine-generator units with a new 340-kW Flygt turbine-generator unit, for a total installed capacity of 743 kW at the project; (3) release a minimum flow of 29 cfs or inflow, whichever is less, over the dam to the bypassed reach; and (4) close the existing smolt bypass facility. MRPA estimates that the average annual generation of the proposed project will be approximately 1,900 MWh.

m. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. Due to concerns with large gatherings related to COVID-19, we do not intend to conduct a public scoping meeting and site visit in this case. Instead, we are soliciting written comments and suggestions on the preliminary list of issues and alternatives to be addressed in the NEPA document, as described in scoping document 1 (SD1), issued May 18, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 18, 2021.
Kimberly D. Bose,
Secretary.

[FR Doc. 2021-10887 Filed 5-21-21; 8:45 am]

BILLING CODE 6717-01-P